DEPARTMENT OF COMMERCE

National Institute of Standards and Technology

Agency Information Collection Activities; Submission to the Office of Management and Budget (OMB) for Review and Approval; Comment Request; Generic Clearance for Decision Science Data Collections

AGENCY: National Institute of Standards and Technology (NIST), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 12, 2024.

ADDRESSES: Interested persons are invited to submit written comments by mail to Maureen O'Reilly, Management Analyst, NIST at PRANIST@nist.gov. Please reference OMB Control Number 0693-0089 in the subject line of your comments. Do not submit Confidential Business Information or otherwise sensitive or protected information.

FOR FURTHER INFORMATION CONTACT: Requests for additional information or specific questions related to collection activities should be directed to Maureen O'Reilly, Management Analyst, NIST, 100 Bureau Drive, Gaithersburg, MD 20899, 301-975-3189 or maureen.oreilly@nist.gov.

SUPPLEMENTARY INFORMATION:

I. Abstract

The core mission of the National Institute of Standards and Technology (NIST) is to promote U.S. innovation and industrial competitiveness by advancing measurement science, standards, and technology in ways that enhance economic security and improve our quality of life. NIST's operating units across the agency increasingly recognize that the built environment is meant to serve social and economic functions. With this in mind, NIST proposes to conduct a number of data collection efforts directly related to decision-making across individuals, institutions, and communities relevant to key research areas of the agency. The use of decision and information science is critical to further the mission of NIST to promote U.S. innovation and industrial competitiveness. NIST proposes to conduct a number of data collection efforts in decision and information science to include: decision analysis, risk analysis, cost-benefit and cost-effectiveness analysis, constrained optimization, simulation modeling, and application of perception, information processing, and decision models and theories; and drawing on parts of operations research, microeconomics, statistical inference, management control, cognitive and social psychology, and computer science. By focusing on decisions as the unit of analysis, decision science provides a unique framework for understanding interactions across technologies, socio-economic networks, organizations (e.g., institutions, firms), elements of the built environment, and a range of ecological problems and perceptions that influence these decisions.

Data may be collected through a variety of modes, including but not limited to electronic or social media, direct or indirect observation (i.e., in-person, video and audio collections), interviews, structured questionnaires, and focus groups.

II. Method of Collection

NIST will collect this information by electronic means, when possible, as well as by mail, fax, telephone, technical discussions, and in-person interviews. NIST may also utilize observational techniques to collect this information.

Furthermore, remuneration will be offered to respondents when deemed appropriate. Remuneration is justified due to:

(1) The complex study design of many collections requires ongoing participation of various respondents, each of whom is important to achieving study goals. In such studies, should attrition occur at a higher rate than expected, the study goals will not be met.

(2) There is burden on the respondent to take time out of their workday in many cases. There will be equity in the use of remuneration: all respondents will be treated equally with regard to incentives.

III. Data

OMB Control Number: 0693-0089.

Form Number(s): None.

Type of Review: Regular submission, extension of a current information collection.

Affected Public: Individuals or households; first responders; businesses or other for-profit organizations; not-for-profit institutions; State, local or tribal government; Federal government; Standards-making bodies; Universities.

Estimated Number of Respondents: 30,000.

Estimated Time per Response: Varied, dependent upon the data collection method used. The possible response time may be 15 minutes to complete a questionnaire or 2 hours to participate in an interview.

Estimated Total Annual Burden Hours: 15,000.

Estimated Total Annual Cost to Public: $125,000.

Respondent's Obligation: Voluntary.

Legal Authority:

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-12768 Filed 6-10-24; 8:45 am]

BILLING CODE 3510-13-P